DEPARTMENT OF TRANSPORTATION

Federal Aviation Administration

14 CFR Part 71

Proposed Amendment of Class C Airspace at Chicago Midway International Airport, IL; Public Meeting

AGENCY: Federal Aviation Administration (FAA), DOT.

ACTION: Notification of meeting.

SUMMARY: This document announces a fact-finding informal airspace meeting regarding a plan to amend the Class C Airspace at Chicago Midway International Airport, IL. The purpose of the meeting is to solicit aeronautical comments on the proposal's effects on local aviation operations. All comments received during the meeting, and the subsequent comment period, will be considered prior to the issuance of a notice of proposed rulemaking.

DATES: The meetings will be held on Tuesday, September 28, 2021, beginning at 1:00 p.m. (Central Time) and on Wednesday, September 29, 2021, beginning at 6:00 p.m. (Central Time). Comments must be received on or before Friday, October 29, 2021. Each registered participant that indicated they would like to make comments during the meeting will be given an opportunity to deliver their comments or make a presentation, although a time limit may be imposed to accommodate closing times.

ADDRESSES:

Format: This will be a virtual informal airspace meeting using the Zoom teleconferencing tool. The meeting will also be available to watch on the FAA's Facebook, Twitter, and YouTube social media channels.

Comments: Send comments on the proposal, not later than October 29, 2021, to: Christopher Southerland, Manager, Operations Support Group, Central Service Area, Air Traffic Organization, Federal Aviation Administration, 10101 Hillwood Parkway, Fort Worth, TX 76177; or via email to: 9-ASW-CSC-OSG-Airspace-Comments@faa.gov, please include MDW Class C in the email subject line.

FOR FURTHER INFORMATION CONTACT: Al Qualiardi, Support Manager, Chicago District, Chicago Terminal Radar Approach Control (TRACON), Air Traffic Organization, 1100 Bowes Road, Elgin, IL, 60123. Telephone: (847) 608-5591.

SUPPLEMENTARY INFORMATION: Meeting Procedures:

The meeting will provide interested parties an opportunity to present views, recommendations, and comments on the proposed airspace amendment.

(a) Registration: To attend the meeting, members of the public are asked to register at https://zoom.us/webinar/register/WN_1MpVHlbdRHS4SeyIMgxcqw for the Tuesday, September 28, 2021, meeting and at https://zoom.us/webinar/register/WN_zY2MTFJnQDynDG1-tZS16g for the Wednesday, September 29, 2021, meeting. When registration is confirmed, registrants will be provided the virtual meeting weblink information/teleconference call-in number and passcode. Callers are responsible for paying associated long-distance charges (if any).

(b) The meeting will be open to all persons on a space-available basis. There will be no admission fee or other charge to attend and participate. The meeting will be informal in nature and will be conducted by one or more representatives of the FAA Eastern Service Area. A representative from the FAA will present a briefing on the planned airspace modifications.

(c) Each participant will be given an opportunity to deliver comments or make a presentation, although a time limit may be imposed to accommodate closing times. Only comments concerning the plan to amend the Chicago Midway Class C airspace area will be accepted.

(d) Each person wishing to make a presentation will be asked to note their intent when registering for the meeting so those time frames can be established. This meeting will not be adjourned until everyone registered to speak has had an opportunity to address the panel. This meeting may be adjourned at any time if all persons present have had an opportunity to speak.

(e) Position papers or other handout material relating to the substance of the meeting will be accepted. Participants submitting papers or handout materials should send them to the mail or email address noted in the COMMENTS section, above.

(f) This meeting will not be formally recorded. However, a summary of the comments made at the meeting will be filed in the rulemaking docket.

Information gathered through this meeting will assist the FAA in drafting a notice of proposed rulemaking (NPRM) that would be published in the Federal Register. The public will be afforded the opportunity to comment on any NPRM published on this matter.

A graphic depiction of the proposed airspace modifications may be viewed at the following URL: https://www.faa.gov/air_traffic/community_involvement/mdw/.

Agenda for the Meeting

—Presentation of Meeting Procedures

—Informal Presentation of the planned Class C Airspace area

—Public Presentations and Discussions

—Closing Comments

Authority: 49 U.S.C. 106(f), 106(g); 40103, 40113, 40120; E.O.10854, 24 FR 9565, 3 CFR, 1959-1963 Comp., p. 389.

Issued in Washington DC, on August 16, 2021.
George Gonzalez,
Acting Manager, Rules and Regulations Group.

[FR Doc. 2021-17929 Filed 8-20-21; 8:45 am]

BILLING CODE 4910-13-P